DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Subcommittee on Standards and Security (SSS).

Time and Date:

December 8, 2004, 9 a.m.—5:30 p.m.

December 9, 2004, 8:30 a.m.—6 p.m.

December 10, 2004, 8:30 a.m.—12:15 p.m.

Place: Hubert H. Humphrey Building, 200 Independence Avenue, SW., Room 705A, Washington, DC 20201.

Status: Open.

Purpose: The Subcommittee on Standards and Security will meet on December 8-10. December 8 and 9 will be devoted to hearing testimony from various stakeholders in government and the industry about standards and issues related to the use of e-signatures and electronic prescribing. The morning of the 10th will focus on updates from the industry workgroups on the codified SIG, formulary and benefits standards, and the HL7/NCPDP harmonization, which will be followed by Subcommittee discussion.

For Further Information Contact: Substantive program information as well as summaries of meetings and a roster of Committee members may be obtained from Maria Friedman, Health Insurance Specialist, Security and Standards Group, Centers for Medicare and Medicaid Services, MS: C5-24-04, 7500 Security Boulevard, Baltimore, MD 21244-1850, telephone: (410) 786-6333 or Marjorie S. Greenberg, Executive Secretary, NCVHS, National Center for Health Statistics, Centers for Disease Control and Prevention, Room 1100, 3311 Toledo Road, Hyattsville, Maryland 20782, telephone: (301) 458-4245. Information also is available on the NCVHS home page of the HHS Web site: http://www.ncvhs.hhs.gov/ where an agenda for the meeting will be posed when available.

Should you require reasonable accommodation, please contract the CDC Office of Equal Employment Opportunity on (301) 458-4EEO (4336) as soon as possible.

Dated: November 22, 2004.
James Scanlon,
Acting Deputy Assistant Secretary for Science and Data Policy, Office of the Assistant Secretary for Planning and Evaluation.

[FR Doc. 04-26553 Filed 12-01-04; 8:45 am]

BILLING CODE 4151-05-M